DEPARTMENT OF ENERGY

Federal Energy Regulatory Commission

Notice of Commission Half-Day Closing

December 17, 2009.

Pursuant to Executive Order of President Barack Obama, all executive departments and other agencies of the Federal government shall be closed for the last half of the scheduled workday on Thursday, December 24, 2009, the day before Christmas Day.

In accordance with section 385.2007 of the Commission's Rules, 18 CFR 385.2007, filings and documents due to be filed on Thursday, December 24, 2009, will be accepted as timely on the next official business day.

Kimberly D. Bose,
Secretary.

[FR Doc. E9-30580 Filed 12-23-09; 8:45 am]

BILLING CODE 6717-01-P